DEPARTMENT OF AGRICULTURE

Animal and Plant Health Inspection Service

[Docket No. APHIS-2009-0006]

Notice of Availability of a Bovine Brucellosis Program Concept Paper

AGENCY: Animal and Plant Health Inspection Service, USDA.

ACTION: Notice of availability and request for comments; reopening of comment period.

SUMMARY: We are reopening the comment period for our notice that made a concept paper describing a new direction for the bovine brucellosis program available for public comment. This action will allow interested persons additional time to prepare and submit comments.

DATES: We will consider all comments that we receive on or before January 4, 2010.

ADDRESSES: You may submit comments by either of the following methods:

• Federal eRulemaking Portal: Go to (http://www.regulations.gov/fdmspublic/component/main?main=DocketDetail&d=APHIS-2009-0006) to submit or view comments and to view supporting and related materials available electronically.

• Postal Mail/Commercial Delivery: Please send two copies of your comment to Docket No. APHIS-2009-0006, Regulatory Analysis and Development, PPD, APHIS, Station 3A-03.8, 4700 River Road Unit 118, Riverdale, MD 20737-1238. Please state that your comment refers to Docket No. APHIS-2009-0006.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Dr. Lee Ann Thomas, Director, Ruminant Health Programs, VS, APHIS, 4700 River Road Unit 43, Riverdale, MD 20737-1231; (301) 734-6954.

SUPPLEMENTARY INFORMATION: On October 5, 2009, we published in the Federal Register (74 FR 51115-51116, Docket No. APHIS-2009-0006) a notice that made a concept paper describing a new direction for the bovine brucellosis program available for public review and comment.

Comments on the notice were required to be received on or before December 4, 2009. We are reopening the comment period on Docket No. APHIS-2009-0006 for an additional 30 days ending January 4, 2010. This action will allow interested persons additional time to prepare and submit comments. We will also consider all comments received between December 4, 2009, and the date of this notice.

Done in Washington, DC, this 16th day of December 2009.

Kevin Shea
Acting Administrator, Animal and Plant Health Inspection Service.

[FR Doc. E9-30684 Filed 12-24-09: 12:40 pm]

BILLING CODE: 3410-34-S